DEPARTMENT OF HEALTH AND HUMAN SERVICES

National Committee on Vital and Health Statistics: Meeting

Name: National Committee on Vital and Health Statistics (NCVHS), Subcommittee on Standards and Security.

Time and Date: October 22, 2002; 9 a.m.-5 p.m. October 23, 2002; 9 a.m.-1 p.m.

Place: Hubert H. Humphrey Building, Room 705A, 200 Independence Avenue SW., Washington, DC.

Status: Open.

Purpose: In the morning session on October 22, the Subcommittee on Standards and Security will review the current status of implementation of the Health Insurance Portability and Accountability Act (HIPAA) and will discuss best practices resulting from that implementation. In the afternoon the subcommittee will be briefed on drug terminologies from the Food and Drug Administration (FDA) and will discuss and prepare for the November full Committee meeting relating to the issues of ICD-10-CM and ICD-10-PCS. On October 23 the subcommittee will review a summary of the testimony from the expert panel in medical terminology heard at the August 28-29 subcommittee meeting. From the review and discussion the subcommittee intends to define the scope and the criteria for recommendations to the Department on the selection of Patient Record Medical Information (PMRI) terminologies under HIPAA.

Contact Person for More Information: Substantive program information as well as summaries of meetings and a roster of Committee members may be obtained from Karen Trudel, Senior Technical Advisor, Security and Standards Group, Centers for Medicare and Medicaid Services, MD: C5-24-04, 7500 Security Boulevard, Baltimore, MD 21244-1850, telephone: 410-786-9937; or Marjorie S. Greenberg, Executive Secretary, NCVHS, National Center for Health Statics, Centers for Disease Control and Prevention, Room 1100, Presidential Building, 6525 Belcrest Road, Hyattsville, Maryland 20782, telephone: (301) 458-4245. Information also is available on the NCVHS home page of the HHS website: http://www.ncvhs.hhs.gov/ where an agenda for the meeting will be posted when available.

Dated: October 15, 2002.
James Scanlon,
Director, Division of Data Policy, Office of the Assistant Secretary for Planning and Evaluation.

[FR Doc. 02-26882 Filed 10-22-02; 8:45 am]

BILLING CODE 4551-05-M